DEPARTMENT OF COMMERCE

International Trade Administration

[A-570-890]

Wooden Bedroom Furniture From the People's Republic of China: Preliminary Results of Antidumping Duty Administrative Review and Intent To Rescind Review in Part

AGENCY: Import Administration, International Trade Administration, Department of Commerce.

SUMMARY: The Department of Commerce (“Department”) is conducting an administrative review of the antidumping duty order on wooden bedroom furniture from the People's Republic of China (“PRC”). The period of review (“POR”) is January 1, 2010 through December 31, 2010. This administrative review covers multiple exporters of the subject merchandise.

Fourteen companies failed to provide separate rate information and, thus, did not demonstrate that they are entitled to a separate rate and have been treated as part of the PRC-wide entity. One company demonstrated that it is entitled to a separate rate. If these preliminary results are adopted in our final results of review, we will instruct U.S. Customs and Border Protection (“CBP”) to assess antidumping duties on all appropriate entries of subject merchandise during the POR.

We invite interested parties to comment on these preliminary results. Parties who submit comments are requested to submit with each argument a statement of the issue and a brief summary of the argument. We intend to issue the final results of this review no later than 120 days from the date of publication of this notice.

DATES: Effective Date: October 24, 2011.

FOR FURTHER INFORMATION CONTACT: Jeff Pedersen or Rebecca Pandolph, AD/CVD Operations, Office 4, Import Administration, International Trade Administration, U.S. Department of Commerce, 14th Street and Constitution Avenue, NW., Washington, DC 20230; telephone: (202) 482-2769 or (202) 482-3627, respectively.

SUPPLEMENTARY INFORMATION:

Background

On January 4, 2005, the Department published in the Federal Register the antidumping duty order on wooden bedroom furniture from the PRC.¹ On January 3, 2011, the Department notified interested parties of their opportunity to request an administrative review, including a review of the antidumping duty order on wooden bedroom furniture from the PRC.² In January 2011, the petitioners, American Furniture Manufacturers Committee for Legal Trade and Vaughan-Bassett Furniture Company, Inc. (collectively, “Petitioners”), and the domestic interested parties, Kimball International, Inc., Kimball Furniture Group, Inc. and Kimball Hospitality Inc. (collectively, “Kimball”); Ashley Furniture; Butler Woodcrafters, Inc.; Acme Furniture Industry Inc., as well as a U.S. importer and certain foreign exporters requested that the Department conduct an administrative review. On February 28, 2011, the Department published in the Federal Register a notice initiating an antidumping duty administrative review of wooden bedroom furniture from the PRC covering 183 companies/company groupings and the period January 1, 2010 through December 31, 2010.³

¹ See Notice of Amended Final Determination of Sales at Less Than Fair Value and Antidumping Duty Order: Wooden Bedroom Furniture from the People's Republic of China, 70 FR 329 (January 4, 2005).

² See Antidumping or Countervailing Duty Order, Finding, or Suspended Investigation; Opportunity to Request Administrative Review, 76 FR 90 (January 3, 2011) (“Opportunity to Request Administrative Review”).

³ See Initiation of Administrative Review of the Antidumping Duty Order on Wooden Bedroom Furniture From the People's Republic of China, 76 FR 10880 (February 28, 2011) (“Initiation Notice”).

In the Initiation Notice and Opportunity to Request Administrative Review, parties were notified that if the Department limited the number of respondents selected for individual examination, it would select respondents based on export/shipment data provided in response to the Department's quantity and value (“Q&V”) questionnaire. The Department further stated its intention to limit the number of Q&V questionnaires issued in the review based on CBP data for U.S. imports classified under the Harmonized Tariff Schedule of the United States (“HTSUS”) headings identified in the scope of the antidumping duty order on wooden bedroom furniture from the PRC. The Department noted it intended to send Q&V questionnaires to the 21 companies for which a review was requested with the largest total values of subject merchandise imported into the United States during the POR according to CBP data. See Initiation Notice, 76 FR at 10881. The Initiation Notice also notified parties that they must timely submit separate rate applications or separate rate certifications in order to qualify for a separate rate. See Initiation Notice, 76 FR at 10881-82.

On February 23, 2011, the Department issued Q&V questionnaires to the 21 companies for which a review was requested with the largest shipments by value according to information gathered from CBP.⁴ These questionnaires requested that the companies report the Q&V of their POR exports and/or shipments of wooden bedroom furniture to the United States for the purpose of respondent selection. The Department received Q&V questionnaire responses from all of the 21 companies except Shanghai Fangjia Industry Co. Ltd., Shanghai Aosen Furniture Co., Ltd. and received an untimely Q&V questionnaire response from Wanhengtong Nueevder (Furniture) Manufacture Co., Ltd./Dongguan Wanengtong Industry Co., Ltd.⁵ Seven additional companies or company groupings also submitted Q&V questionnaire responses.⁶ From March through May 2011, the Department received separate rate certifications and applications from 73 companies and company groupings. In addition, during that period, the Department received requests from Dalian Huafeng Furniture Group Co., Ltd.; the Dorbest Group; ⁷ Fine Furniture (Shanghai) Limited; and Guangzhou Maria Yee Furnishings Ltd., Pyla HK Limited, and Maria Yee, Inc. (collectively, “Maria Yee”) to be treated as voluntary respondents.

⁴ These companies are: (1) Art Heritage International, Ltd.; Super Art Furniture Co., Ltd.; Artwork Metal & Plastic Co., Ltd.; Jibson Industries Ltd., Always Loyal International; (2) Dalian Huafeng Furniture Co., Ltd. (3) Dongguan Sunrise Furniture Co.; Taicang Sunrise Wood Industry Co., Ltd.; Shanghai Sunrise Furniture Co., Ltd.; Fairmont Designs (4) Dongguan Sunshine Furniture Co., Ltd. (5) Dorbest Ltd.; Rui Feng Woodwork Co., Ltd. aka Rui Feng Woodwork (Dongguan) Co., Ltd.; Rui Feng Lumber Development Co., Ltd. aka Rui Feng Lumber Development (Shenzhen) Co., Ltd.; (6) Fine Furniture (Shanghai) Ltd. (7) Jiangmen Kinwai International Furniture Co., Ltd. (8) (9) Sen Yeong International Co., Ltd.; Sheh Hau International Trading Ltd. (10) Shanghai Aosen Furniture Co., Ltd. (11) Shanghai Fangjia Industry Co. Ltd. (12) Shanghai Maoji Imp and Exp Co., Ltd. (13) Shenzhen Forest Furniture Co., Ltd. (14) Shing Mark Enterprise Co., Ltd.; Carven Industries Limited (BVI); Carven Industries Limited (HK); Dongguan Zhenxin Furniture Co., Ltd.; Dongguan Yongpeng Furniture Co., Ltd. (15) Superwood Co., Ltd.; Lianjiang Zongyu Art Products Co., Ltd. (16) Taicang Fairmount Designs Furniture Co., Ltd. (17) Tube-Smith Enterprise (Zhangzhou) Co., Ltd.; Tube-Smith Enterprise (Haimen) Co., Ltd.; Billionworth Enterprises Ltd. (18) (19) Wanhengtong Nueevder (Furniture) Manufacture Co., Ltd./Dongguan Wanengtong Industry Co., Ltd. (20) Woodworth Wooden Industries (Dong Guan) Co., Ltd.; and (21) Zhangzhou Guohui Industrial & Trade Co. Ltd.

⁵ The Department did not accept the untimely information. See letter to Wanhengtong Nueevder (Furniture) Manufacture Co., Ltd. from Abdelali Elouaradia, Director, Office 4, AD/CVD Operations, dated March 28, 2011.

⁶ These companies are: (1) Guangzhou Maria Yee Furnishings Ltd.; Pyla HK, Ltd.; Maria Yee, Inc.; (2) Jiangmen Kinwai Furniture Decoration Co., Ltd.; (3) Jiedong Lehouse Furniture Co., Ltd.; (4) Putian Jinggong Furniture Co., Ltd.; (5) Shanghai Jian Pu Export & Import Co., Ltd.; (6) Zhongshan Golden King Furniture Industrial Co., Ltd.; and (7) Sheng Jing Wood Products (Beijing) Co., Ltd.

⁷ The Dorbest Group consists of Rui Feng Woodwork Co. Ltd., Rui Feng Lumber Development Co., Ltd., Dorbest Ltd., Rui Feng Woodwork (Dongguan) Co., Ltd., and Rui Feng Lumber Development (Shenzhen) Co., Ltd.

On January 31, and March 14, 2011, Petitioners submitted comments on the Department's process of selecting mandatory respondents. Given its limited resources, and the fact that an administrative review was requested for 183 companies/company groupings, on March 30, 2011, the Department decided to individually examine the following companies, based upon the Q&V data: (1) The Dorbest Group; and (2) the Shing Mark Group, which consists of Shing Mark Enterprise Co., Ltd., Carven Industries Limited (BVI), Carven Industries Limited (HK), Dongguan Zhenxin Furniture Co., Ltd., and Dongguan Yongpeng Furniture Co., Ltd.⁸

⁸ See Memorandum from Jeff Pedersen, Senior International Trade Compliance Analyst, Office 4, AD/CVD Operations through Howard Smith, Program Manager, Office 4, AD/CVD Operations to Abdelali Elouaradia, Office Director, Office 4, AD/CVD Operations regarding, “Respondent Selection in the 2010 Antidumping Duty Administrative Review of Wooden Bedroom Furniture from the People's Republic of China,” dated March 30, 2011.

On March 30, 2011, the Department issued the antidumping questionnaire to the Dorbest Group and the Shing Mark Group, and made the questionnaire available to the voluntary respondents.

From March through June 2011, a number of interested parties withdrew their review requests for all but 22 companies/company groupings.⁹ All review requests were withdrawn for the mandatory respondents the Dorbest Group and the Shing Mark Group.

⁹ These companies are: (1) Baigou Crafts Factory of Fengkai; (2) Dongguan Bon Ten Furniture Co., Ltd.; (3) Dongguan Grand Style Furniture Co. Ltd.; Hong Kong Da Zhi Furniture Co., Ltd.; (4) Dongguan Hero Way Woodwork Co., Ltd.; Dongguan Da Zhong Woodwork Co., Ltd.; Hero Way Enterprises Ltd.; Well Earth International Ltd.; (5) Dongguan Huansheng Furniture Co., Ltd.; (6) Dongguan Mu Si Furniture Co., Ltd.; (7) Golden Well International (HK) Ltd.; (8) Hainan Jong Bao Lumber Co., Ltd.; Jibbon Enterprise Co., Ltd.; (9) Hangzhou Cadman Trading Co., Ltd.; (10) Kuan Lin Furniture (Dong Guan) Co., Ltd.; Kuan Lin Furniture Factory; Kuan Lin Furniture Co., Ltd.; (11) Kunshan Lee Wood Product Co., Ltd.; (12) Leefu Wood (Dongguan) Co., Ltd.; King Rich International, Ltd.; (13) Locke Furniture Factory; Kai Chan Furniture Co., Ltd.; Kai Chan (Hong Kong) Enterprise Ltd.; Taiwan Kai Chan Co., Ltd.; (14) Meikangchi (Nantong) Furniture Company Ltd.; (15) Nantong Dongfang Orient Furniture Co., Ltd.; (16) Shanghai Fangjia Industry Co. Ltd.; (17) Tube-Smith Enterprise (Zhangzhou) Co., Ltd.; Tube-Smith Enterprise (Haimen) Co., Ltd.; Billionworth Enterprises Ltd. (18) Winny Overseas, Ltd.; Zhongshan Winny Furniture Ltd.; Winny Universal Ltd.; (19) Zhangjiang Sunwin Arts & Crafts Co., Ltd.; (20) Zhejiang Tianyi Scientific & Educational Equipment Co., Ltd.; (21) Zhong Shan Fullwin Furniture Co., Ltd.; and (22) Zhongshan Gainwell Furniture Co. Ltd.

On May 27, 2011, Amini Innovation Corp. (“Amini”), a U.S. importer of wooden bedroom furniture, commented on the Tube-Smith Group ¹⁰ sm request for a review of its sales during the POR. On June 6, 2011, the Tube-Smith Group responded to Amini's May 27, 2011, comments. On June 8, 2011, Amini submitted additional comments regarding the Tube-Smith Group's review request.

¹⁰ The Tube-Smith Group consists of the following companies: Tube-Smith Enterprises (ZhangZhou) Co., Ltd.; Tube-Smith Enterprises (Haimen) Co., Ltd.; and Billionworth Enterprises, Ltd.

On June 20, 2011, Petitioners submitted factual information from the first new shipper review of wooden bedroom furniture from the PRC pertaining to the margin calculated for Shenyang Kunyu Wood Industry Co., Ltd.

On June 22, 2011, the Department issued a letter to Zhanjiang Sunwin Arts & Crafts Co., Ltd. (“Sunwin”), a company that reported it made no shipments of subject merchandise to the United States during the POR, requesting more information regarding its claim that it changed its name to Guangdong Sunwin Green Furniture Industry Group Co., Ltd. On July 5, 2011, Sunwin submitted its response to the letter.

On August 12, and August 26, 2011, the Department released CBP data and documents related to potential period of review entries of subject merchandise from the following companies claiming no sales or shipments of subject merchandise: (1) Baigou Crafts Factory of Fengkai; (2) Locke Furniture Factory; Kai Chan Furniture Co., Ltd.; Kai Chan (Hong Kong) Enterprise Ltd.; Taiwan Kai Chan Co., Ltd, (collectively, “Locke Furniture”); and (3) Sunwin. On August 25, and September 2, 2011, Petitioners submitted comments on the CBP data and documents. On September 2, 2011, Sunwin submitted comments on the CBP data and requested additional time to submit its separate rate information.

Scope of the Order

The product covered by the order is wooden bedroom furniture. Wooden bedroom furniture is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, strand board, particle board, and fiberboard, with or without wood veneers, wood overlays, or laminates, with or without non-wood components or trim such as metal, marble, leather, glass, plastic, or other resins, and whether or not assembled, completed, or finished.

The subject merchandise includes the following items: (1) Wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,¹¹ highboys,¹² lowboys,¹³ chests of drawers,¹⁴ chests,¹⁵ door chests,¹⁶ chiffoniers,¹⁷ hutches,¹⁸ and armoires; ¹⁹ (6) desks, computer stands, filing cabinets, book cases, or writing tables that are attached to or incorporated in the subject merchandise; and (7) other bedroom furniture consistent with the above list.

¹¹ A chest-on-chest is typically a tall chest-of-drawers in two or more sections (or appearing to be in two or more sections), with one or two sections mounted (or appearing to be mounted) on a slightly larger chest; also known as a tallboy.

¹² A highboy is typically a tall chest of drawers usually composed of a base and a top section with drawers, and supported on four legs or a small chest (often 15 inches or more in height).

¹³ A lowboy is typically a short chest of drawers, not more than four feet high, normally set on short legs.

¹⁴ A chest of drawers is typically a case containing drawers for storing clothing.

¹⁵ A chest is typically a case piece taller than it is wide featuring a series of drawers and with or without one or more doors for storing clothing. The piece can either include drawers or be designed as a large box incorporating a lid.

¹⁶ A door chest is typically a chest with hinged doors to store clothing, whether or not containing drawers. The piece may also include shelves for televisions and other entertainment electronics.

¹⁷ A chiffonier is typically a tall and narrow chest of drawers normally used for storing undergarments and lingerie, often with mirror(s) attached.

¹⁸ A hutch is typically an open case of furniture with shelves that typically sits on another piece of furniture and provides storage for clothes.

¹⁹ An armoire is typically a tall cabinet or wardrobe (typically 50 inches or taller), with doors, and with one or more drawers (either exterior below or above the doors or interior behind the doors), shelves, and/or garment rods or other apparatus for storing clothes. Bedroom armoires may also be used to hold television receivers and/or other audiovisual entertainment systems.

The scope of the order excludes the following items: (1) Seats, chairs, benches, couches, sofas, sofa beds, stools, and other seating furniture; (2) mattresses, mattress supports (including box springs), infant cribs, water beds, and futon frames; (3) office furniture, such as desks, standup desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate; ²⁰ (9) jewelry armories; ²¹ (10) cheval mirrors; ²² (11) certain metal parts; ²³ (12) mirrors that do not attach to, incorporate in, sit on, or hang over a dresser if they are not designed and marketed to be sold in conjunction with a dresser as part of a dresser-mirror set; (13) upholstered beds ²⁴ and (14) toy boxes.²⁵

²⁰ As used herein, bentwood means solid wood made pliable. Bentwood is wood that is brought to a curved shape by bending it while made pliable with moist heat or other agency and then set by cooling or drying. See CBP's Headquarters Ruling Letter 043859, dated May 17, 1976.

²¹ Any armoire, cabinet or other accent item for the purpose of storing jewelry, not to exceed 24 inches in width, 18 inches in depth, and 49 inches in height, including a minimum of 5 lined drawers lined with felt or felt-like material, at least one side door (whether or not the door is lined with felt or felt-like material), with necklace hangers, and a flip-top lid with inset mirror. See Issues and Decision Memorandum from Laurel LaCivita to Laurie Parkhill, Office Director, concerning “Jewelry Armoires and Cheval Mirrors in the Antidumping Duty Investigation of Wooden Bedroom Furniture from the People's Republic of China,” dated August 31, 2004. See also Wooden Bedroom Furniture From the People's Republic of China: Final Changed Circumstances Review, and Determination To Revoke Order in Part, 71 FR 38621 (July 7, 2006).

²² Cheval mirrors are any framed, tiltable mirror with a height in excess of 50 inches that is mounted on a floor-standing, hinged base. Additionally, the scope of the order excludes combination cheval mirror/jewelry cabinets. The excluded merchandise is an integrated piece consisting of a cheval mirror, i.e., a framed tiltable mirror with a height in excess of 50 inches, mounted on a floor-standing, hinged base, the cheval mirror serving as a door to a cabinet back that is integral to the structure of the mirror and which constitutes a jewelry cabinet line with fabric, having necklace and bracelet hooks, mountings for rings and shelves, with or without a working lock and key to secure the contents of the jewelry cabinet back to the cheval mirror, and no drawers anywhere on the integrated piece. The fully assembled piece must be at least 50 inches in height, 14.5 inches in width, and 3 inches in depth. See Wooden Bedroom Furniture From the People's Republic of China: Final Changed Circumstances Review and Determination To Revoke Order in Part, 72 FR 948 (January 9, 2007).

²³ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified under HTSUS subheadings 9403.90.7005, 9403.90.7010, or 9403.90.7080.

²⁴ Upholstered beds that are completely upholstered, i.e., containing filling material and completely covered in sewn genuine leather, synthetic leather, or natural or synthetic decorative fabric. To be excluded, the entire bed (headboards, footboards, and side rails) must be upholstered except for bed feet, which may be of wood, metal, or any other material and which are no more than nine inches in height from the floor. See Wooden Bedroom Furniture from the People's Republic of China: Final Results of Changed Circumstances Review and Determination to Revoke Order in Part, 72 FR 7013 (February 14, 2007).

²⁵ To be excluded the toy box must: (1) be wider than it is tall; (2) have dimensions within 16 inches to 27 inches in height, 15 inches to 18 inches in depth, and 21 inches to 30 inches in width; (3) have a hinged lid that encompasses the entire top of the box; (4) not incorporate any doors or drawers; (5) have slow-closing safety hinges; (6) have air vents; (7) have no locking mechanism; and (8) comply with American Society for Testing and Materials (“ASTM”) standard F963-03. Toy boxes are boxes generally designed for the purpose of storing children's items such as toys, books, and playthings. See Wooden Bedroom Furniture from the People's Republic of China: Final Results of Changed Circumstances Review and Determination to Revoke Order in Part, 74 FR 8506 (February 25, 2009). Further, as determined in the scope ruling memorandum “Wooden Bedroom Furniture from the People's Republic of China: Scope Ruling on a White Toy Box,” dated July 6, 2009, the dimensional ranges used to identify the toy boxes that are excluded from the wooden bedroom furniture order apply to the box itself rather than the lid.

Imports of subject merchandise are classified under subheadings 9403.50.9042 and 9403.50.9045 of the U.S. Harmonized Tariff Schedule (“HTSUS”) as “wooden * * * beds” and under subheading 9403.50.9080 of the HTSUS as “other * * * wooden furniture of a kind used in the bedroom.” In addition, wooden headboards for beds, wooden footboards for beds, wooden side rails for beds, and wooden canopies for beds may also be entered under subheading 9403.50.9042 or 9403.50.9045 of the HTSUS as “parts of wood.” Subject merchandise may also be entered under subheadings 9403.50.9041, 9403.60.8081, or 9403.20.0018.²⁶ Further, framed glass mirrors may be entered under subheading 7009.92.1000 or 7009.92.5000 of the HTSUS as “glass mirrors * * * framed.” The order covers all wooden bedroom furniture meeting the above description, regardless of tariff classification. Although the HTSUS subheadings are provided for convenience and customs purposes, our written description of the scope of this proceeding is dispositive.

²⁶ This HTSUS number has been added to the scope description in this segment of the proceeding.

Partial Final Rescission of Review

Pursuant to 19 CFR 351.213(d)(1), the Department will rescind an administrative review, in whole or in part, if the party that requested the review withdraws its request within 90 days of the date of publication of the notice of initiation of the requested review. Because all requesting parties withdrew their respective requests for an administrative review of the following entities within 90 days of the date of publication of the notice of initiation, the Department is rescinding this review with respect to these entities:

• Alexandre International Corp.; Southern Art Development Ltd.; Alexandre Furniture (Shenzhen) Co., Ltd.; Southern Art Furniture Factory

• Art Heritage International, Ltd.; Super Art Furniture Co., Ltd.; Artwork Metal & Plastic Co., Ltd.; Jibson Industries Ltd., Always Loyal International

• Billy Wood Industrial (Dong Guan) Co., Ltd.; Great Union Industrial (Dongguan) Co., Ltd.; Time Faith Ltd.

• Changshu HTC Import & Export Co., Ltd.

• Cheng Meng Furniture (PTE) Ltd.; Cheng Meng Decoration & Furniture (Suzhou) Co., Ltd.

• Chuan Fa Furniture Factory

• Clearwise Company Limited

• COE Ltd.

• Dalian Huafeng Furniture Co., Ltd./Dalian Huafeng Furniture Group Co., Ltd.²⁷

²⁷ The Department initiated reviews of Dalian Huafeng Furniture Co., Ltd. and Dalian Huafeng Furniture Group Co., Ltd. as separate companies. However, in the administrative review just prior to this review, the Department determined that Dalian Huafeng Furniture Group Co., Ltd. was the successor-in-interest to Dalian Huafeng Furniture Co., Ltd. See Memorandum from Abdelali Elouaradia, Director, Office 4, AD/CVD Operations through Howard Smith, Program Manager, Office 4, AD/CVD Operations from Rebecca Pandolph, International Trade Compliance Analyst, AD/CVD Operations, Office 4 regarding, “Successor-in-Interest,” dated March 11, 2011.

• Decca Furniture Ltd.

• Dongguan Cambridge Furniture Co.; Glory Oceanic Co., Ltd.

• Dongguan Creation Furniture Co., Ltd.; Creation Industries Co., Ltd.

• Dongguan Great Reputation Furniture Co., Ltd.

• Dongguan Hung Sheng Artware Products Co., Ltd.; Coronal Enterprise Co., Ltd.

• Dongguan Kin Feng Furniture Co., Ltd.

• Dongguan Kingstone Furniture Co., Ltd.; Kingstone Furniture Co., Ltd.

• Dongguan Landmark Furniture Products Ltd.

• Dongguan Liaobushangdun Huada Furniture Factory; Great Rich (HK) Enterprises Co. Ltd.

• Dongguan Lung Dong Furniture Co., Ltd.; Dongguan Dong He Furniture Co., Ltd.

• Dongguan Singways Furniture Co., Ltd.

• Dongguan Sunrise Furniture Co., Ltd.; Taicang Sunrise Wood Industry Co., Ltd.; Taicang Fairmount Designs Furniture Co., Ltd.; Meizhou Sunrise Furniture Co., Ltd.

• Dongguan Sunrise Furniture Co.; Taicang Sunrise Wood Industry Co., Ltd.; Shanghai Sunrise Furniture Co., Ltd.; Fairmont Designs

• Dongguan Sunshine Furniture Co., Ltd.

• Dongguan Yihaiwei Furniture Limited

• Dongguan Yujia Furniture Co., Ltd.²⁸

²⁸ Dongguan Yujia Furniture Co., Ltd. is undergoing a new shipper review covering the period January 1, 2010 through December 31, 2010. The Department will issue assessment instructions for Dongguan Yujia Furniture Co., Ltd. at the completion of the new shipper review.

• Dongying Huanghekou Furniture Industry Co., Ltd.

• Eurosa (Kunshan) Co., Ltd.; Eurosa Furniture Co., (PTE) Ltd.

• Fine Furniture (Shanghai) Ltd.

• Foshan Guanqiu Furniture Co. Ltd.

• Fuzhou Huan Mei Furniture Co., Ltd.

• Garri Furniture (Dong Guan) Co., Ltd.; Molabile International, Inc.; Weei Geo Enterprise Co., Ltd.

• Guangzhou Maria Yee Furnishings Ltd.; Pyla HK, Ltd.; Maria Yee, Inc.

• Hang Hai Woodcraft's Art Factory

• Hualing Furniture (China) Co., Ltd.; Tony House Manufacture (China) Co., Ltd.; Buysell Investments Ltd.; Tony House Industries Co., Ltd.

• Jardine Enterprise, Ltd.

• Jiangmen Kinwai Furniture Decoration Co., Ltd.

• Jiangmen Kinwai International Furniture Co., Ltd.

• Jiangsu Dare Furniture Co., Ltd.

• Jiangsu Weifu Group Fullhouse Furniture Mfg. Corp.

• Jiangsu Xiangsheng Bedtime Furniture Co., Ltd.

• Jiangsu Yuexing Furniture Group Co., Ltd.

• Jiedong Lehouse Furniture Co., Ltd.

• Kunshan Summit Furniture Co., Ltd.

• Langfang Tiancheng Furniture Co., Ltd.

• Link Silver Ltd. (V.I.B.); Forward Win Enterprises Company Limited; Dongguan Haoshun Furniture Ltd.

• Longrange Furniture Co., Ltd.

• Nanhai Baiyi Woodwork Co., Ltd.

• Nanhai Jiantai Woodwork Co., Ltd.; Fortune Glory Industrial Ltd. (H.K. Ltd.)

• Nantong Yangzi Furniture Co., Ltd.

• Nantong Yushi Furniture Co., Ltd.

• Nathan International Ltd.; Nathan Rattan Factory

• Perfect Line Furniture Co., Ltd.

• Pleasant Wave Limited; Passwell Corporation

• Prime Wood International Co., Ltd; Prime Best International Co., Ltd.; Prime Best Factory; Liang Huang (Jiaxing) Enterprise Co., Ltd.

• Putian Jinggong Furniture Co., Ltd.

• Qingdao Liangmu Co., Ltd.

• Restonic (Dongguan) Furniture Ltd.; Restonic Far East (Samoa) Ltd.

• Rizhao Sanmu Woodworking Co., Ltd.

• Season Furniture Manufacturing Co.; Season Industrial Development Co.

• Sen Yeong International Co., Ltd.; Sheh Hau International Trading Ltd.

• Shanghai Jian Pu Export & Import Co., Ltd.

• Shanghai Maoji Imp and Exp Co., Ltd.

• Sheng Jing Wood Products (Beijing) Co., Ltd.; Telstar Enterprises Ltd.

• Shenyang Shining Dongxing Furniture Co., Ltd.

• Shenzhen Jiafa High Grade Furniture Co., Ltd.; Golden Lion International Trading Ltd.

• Shenzhen New Fudu Furniture Co., Ltd.

• Shenzhen Shen Long Hang Industry Co., Ltd.

• Shenzhen Xiande Furniture Factory

• Shun Feng Furniture Co., Ltd.

• Songgang Jasonwood Furniture Factory; Jasonwood Industrial Co., Ltd. S.A.

• Starwood Industries Ltd.

• Strongson Furniture (Shenzhen) Co., Ltd.; Strongson Furniture Co., Ltd.; Strongson (HK) Co.

• Sunforce Furniture (Hui-Yang) Co., Ltd.; Sun Fung Wooden Factory; Sun Fung Co.; Shin Feng Furniture Co., Ltd.; Stupendous International Co., Ltd.

• Superwood Co., Ltd.; Lianjiang Zongyu Art Products Co., Ltd.

• Tarzan Furniture Industries Ltd.; Samso Industries Ltd.

• Techniwood Industries Ltd.; Ningbo Furniture Industries Limited; Ningbo Hengnin Furniture Co. Ltd.

• Tianjin Fortune Furniture Co., Ltd

• Tianjin Master Home Furniture

• Tianjin Phu Shing Woodwork Enterprise Co., Ltd.

• Tradewinds Furniture Ltd.; Fortune Glory Industrial Ltd. (H. K. Ltd.)

• Transworld (Zhang Zhou) Furniture Co. Ltd.

• U-Rich Furniture (Zhangzhou) Co., Ltd.; U-Rich Furniture Ltd.

• Wanhengtong Nueevder (Furniture) Manufacture Co., Ltd.; Dongguan Wanengtong Industry Co., Ltd.

• Wanvog Furniture (Kunshan) Co., Ltd.

• Woodworth Wooden Industries (Dong Guan) Co., Ltd.

• Xiamen Yongquan Sci-Tech Development Co., Ltd.

• Yeh Brothers World Trade, Inc.

• Yihua Timber Industry Co., Ltd.; Guangdong Yihua Timber Industry Co., Ltd.

• Zhang Zhou Sanlong Wood Product Co., Ltd.

• Zhangjiagang Daye Hotel Furniture Co., Ltd.

• Zhangjiagang Zheng Yan Decoration Co., Ltd.

• Zhangzhou Guohui Industrial & Trade Co. Ltd.

• Zhongshan Fookyik Furniture Co., Ltd.

• Zhongshan Golden King Furniture Industrial Co., Ltd.

• Zhoushan For-Strong Wood Co., Ltd.

In addition, because all requesting parties withdrew their respective requests for an administrative review of the two mandatory respondents within 90 days of the date of publication of the notice of initiation, the Department is rescinding this review with respect to the Dorbest Group and the Shing Mark Group, in accordance with 19 CFR 351.213(d)(1).

Acme Furniture Industry Inc. (“Acme”) withdrew its request for an administrative review of Shenzhen Forest Furniture Co., Ltd. and Shenzhen Wonderful Furniture Co., Ltd. (collectively, “Shenzhen”) on June 9, 2011.²⁹ The 90-day deadline established by 19 CFR 351.213(d)(1) for withdrawing review requests was May 31, 2011. However, 19 CFR 351.213(d)(1) states that the Secretary may extend this time limit if the Secretary finds it reasonable to do so. In order to provide parties additional certainty with respect to when the Department will exercise its discretion to extend the 90-day deadline, the Department has recently announced that it will not accept withdrawals of review requests after the 90-day deadline except in extraordinary circumstances.³⁰ Because (1) the Department did not notify parties to this review, prior to Acme's request for a review of Shenzhen, that it would not accept withdrawals of review requests after the 90-day deadline except in extraordinary circumstances, and (2) the Department has allowed parties, in this review and other proceedings, to withdraw review requests after the 90-day deadline for withdrawing review requests despite there being no extraordinary circumstances,³¹ the Department has decided to extend the time limit for withdrawing the review request for Shenzhen. However, consistent with the recent announcement regarding withdrawals of review requests, in segments of this proceeding with anniversary months after August 2011, the Department will not consider extending the 90-day deadline for withdrawing review requests unless the requestor demonstrates that an extraordinary circumstance has prevented it from submitting a timely withdrawal of its review request. Determinations by the Department to extend the 90-day deadline will be made on a case-by-case basis.³² Because all parties who requested the review of Shenzhen have subsequently withdrawn their requests, in accordance with 19 CFR 351.213(d)(1), we are also rescinding this review of the antidumping duty order with respect to Shenzhen.

²⁹ See letter from Shenzhen regarding, “Wooden Bedroom Furniture from the People's Republic of China-Acme Furniture Industry, Inc.'s Withdrawal Request for Shenzhen Forest and Shenzhen Wonderful,” dated June 9, 2011.

³⁰ See Antidumping or Countervailing Duty Order, Finding, or Suspended Investigation; Opportunity to Request Administrative Review, 76 FR 45773 (August 1, 2011) (August 2011 “Opporunity Notice”).

³¹ See Wooden Bedroom Furniture From the People's Republic of China: Partial Rescission of Antidumping Duty Administrative Review, 75 FR 54854 (September 9, 2010) at the section entitled “Rescission of the Fairmont Group.”

³² See August 2011 Opportunity Notice, 76 FR at 45773.

Further, for the following companies for which all requesting parties withdrew their respective requests for an administrative review within 90 days of the date of publication of the notice of initiation, but which were part of the PRC-wide entity during the POR, the Department intends to rescind the review in the final results:

• Brother Furniture Manufacture Co., Ltd.³³

³³ Because Brother Furniture Manufacture Co., Ltd. lost its separate rate on August 18, 2010 (see 4th Review Final Results), and has not filed a separate rate application to establish its eligibility for a separate rate in this review, the Department is treating this company as part of the PRC-wide entity.

• C.F. Kent Co., Inc.

• C.F. Kent Hospitality, Inc.

• Champion Sun Industries Limited

• Contact Co., Ltd.

• Denny's Furniture Associates Corp.

• Denny's International Co., Ltd.

• Der Cheng Furniture Co., Ltd.

• Der Cheng Wooden Works

• Dong Guan Golden Fortune Houseware Co., Ltd.³⁴

³⁴ Because Dong Guan Golden Fortune Houseware Co., Ltd. lost its separate rate on August 18, 2010 (see 4th Review Final Results), and has not filed a separate rate application to establish its eligibility for a separate rate in this review, the Department is treating this company as part of the PRC-wide entity.

• Dongguan Chunsan Wood Products Co., Ltd.³⁵

³⁵ Because Dongguan Chunsan Wood Products Co., Ltd. lost its separate rate on August 18, 2010 (see 4th Review Final Results), and has not filed a separate rate application to establish its eligibility for a separate rate in this review, the Department is treating this company as part of the PRC-wide entity.

• Dongguan Hua Ban Furniture Co., Ltd.³⁶

³⁶ Because Dongguan Hua Ban Furniture Co., Ltd. lost its separate rate on August 18, 2010 (see 4th Review Final Results), and has not filed a separate rate application to establish its eligibility for a separate rate in this review, the Department is treating this company as part of the PRC-wide entity.

• DongGuan Sundart Timber Products Co., Ltd

• Ever Spring Furniture Company Ltd.³⁷

³⁷ Because Ever Spring Furniture Company Ltd.; S.Y.C. Family Enterprise Co., Ltd. lost its separate rate on August 18, 2010 (see 4th Review Final Results), and has not filed a separate rate application to establish its eligibility for a separate rate in this review, the Department is treating this company as part of the PRC-wide entity.

• Evershine Enterprise Co.

• Fleetwood Fine Furniture LP

• Fujian Putian Jinggong Furniture Co., Ltd.

• Gainwell Industries Limited

• Green River Wood (Dongguan) Ltd.³⁸

³⁸ Because Green River Wood (Dongguan) Ltd. lost its separate rate on August 18, 2010 (see 4th Review Final Results), and has not filed a separate rate application to establish its eligibility for a separate rate in this review, the Department is treating this company as part of the PRC-wide entity.

• Guangdong Gainwell Industrial Furniture Co., Ltd.

• Hong Kong Jingbi Group

• Huasen Furniture Co., Ltd.

• Jiant Furniture Co., Ltd.

• King Kei Trading Company Limited ³⁹

³⁹ Because King Kei Trading Company Limited lost its separate rate on August 18, 2010 (see 4th Review Final Results), and has not filed a separate rate application to establish its eligibility for a separate rate in this review, the Department is treating this company as part of the PRC-wide entity.

• King's Way Furniture Industries Co., Ltd.⁴⁰

⁴⁰ Because King's Way Furniture Industries Co., Ltd.; Kingsyear Ltd. lost its separate rate on August 18, 2010 (see 4th Review Final Results), and has not filed a separate rate application to establish its eligibility or a separate rate in this review, the Department is treating this company as part of the PRC-wide entity.

• Kingsyear Ltd.⁴¹

⁴¹ Because King's Way Furniture Industries Co., Ltd.; Kingsyear Ltd. lost its separate rate on August 18, 2010 (see 4th Review Final Results), and has not filed a separate rate application to establish its eligibility or a separate rate in this review, the Department is treating this company as part of the PRC-wide entity.

• Longkou Huangshan Furniture Factory

• MoonArt Furniture Group

• MoonArt International Inc.

• Nanjing Jardine Enterprise, Ltd.

• Nanjing Nanmu Furniture Co., Ltd.⁴²

⁴² 4th Because Nanjing Nanmu Furniture Co., Ltd. lost its separate rate on August 18, 2010 (see 4 Review Final Results), and has not filed a separate rate application to establish its eligibility for a separate rate in this review, the Department is treating this company as part of the PRC-wide entity.

• Nantong Wangzhuang Furniture Co., Ltd.

• Ningbo Fubang Furniture Industries Limited

• Ningbo Furniture Industries Company Ltd.

• Ningbo Techniwood Furniture Industries Limited

• Northeast Lumber Co., Ltd.

• Passwell Wood Corporation

• S.Y.C. Family Enterprise Co., Ltd. ⁴³

⁴³ Because Ever Spring Furniture Company Ltd.; S.Y.C. Family Enterprise Co., Ltd. lost its separate rate on August 18, 2010 (see Llul Review Final Results), and has not filed a separate rate application to establish its eligibility for a separate rate in this review, the Department is treating this company as part of the PRC-wide entity.

• Senyuan Furniture Group

• Shanghai Aosen Furniture Co., Ltd. ⁴⁴

⁴⁴ Because Shanghai Aosen Furniture Co., Ltd. lost its separate rate on August 18, 2010 (see 4th Review Final Results), and has not filed a separate rate application to establish its eligibility for a separate rate in this review, the Department is treating this company as part of the PRC-wide entity.

• Shanghai Hospitality Product Mfg., Co., Ltd.

• Shanghai Industries Group

• Shanghai Kent Furniture Co., Ltd.

• Shanghai Season Industry & Commerce Co., Ltd.

• Shanghai Zhiyi (Jiashun) Furniture Co., Ltd.

• Shanghai Zhiyi Furniture and Decoration Co., Ltd.

• Shaoxing Mengxing Furniture Co., Ltd.

• Starwood Furniture Manufacturing Co., Ltd. ⁴⁵

⁴⁵ Because Starwood Furniture Manufacturing Co., Ltd. lost its separate rate on August 18, 2010 (see Llth Review Final Results), and has not filed a separate rate application to establish its eligibility for a separate rate in this review, the Department is treating this company as part of the PRC-wide entity.

• Sundart International, Ltd.

• Techniwood (Macao Commercial Offshore) Limited

• Tradewinds International Enterprise Ltd.

• Trendex Industries Ltd.

• Wan Bao Chen Group Hong Kong Co., Ltd. ⁴⁶

⁴⁶ Because Wan Bao Chen Group Hong Kong Co., Ltd. lost its separate rate on August 18, 2010 (see 461Review Final Results), and has not filed a separate rate application to establish its eligibility for a separate rate in this review, the Department is treating this company as part of the PRC-wide entity.

• World Design International Co., Ltd.

• Xilinmen Furniture Co., Ltd.

• Xingli Arts & Crafts Factory of Yangchun ⁴⁷

⁴⁷ Because Xingli Arts & Crafts Factory of Yangchun lost its separate rate on August 18, 2010 (see 4 Review Final Results), and has not filed a separate rate application to establish its eligibility for a separate rate in this review, the Department is treating this company as part of the PRC-wide entity.

• Yuexing Group Co., Ltd.

• Zhejiang Shaoxing Huaweimei Furniture Co., Ltd.

• Zhong Shan Heng Fu Furniture Co.

• Zhongshan Fengheng Furniture Co., Ltd.

• Zhongshan Yiming Furniture Co., Ltd.

Intent To Rescind the 2010 Administrative Review, in Part

Among the companies still under review, seven companies reported that they made no shipments of subject merchandise to the United States during the POR.⁴⁸ To test these claims, the Department ran a CBP data query, issued a no-shipment inquiry to CBP requesting that it provide any information that contradicted the no-shipment claims, and obtained entry documents from CBP.⁴⁹ After examining record information, we have preliminarily determined that three of the seven companies, (1) Baigou Crafts Factory of Fengkai, (2) Locke Furniture, and (3) Sunwin, had shipments of subject merchandise that entered the United States during the POR.⁵⁰

⁴⁸ These companies are Baigou Crafts Factory of Fengkai; Locke Furniture; Sunwin; Hangzhou Cadman Trading Co., Ltd.; Dongguan Huangsheng Furniture Co., Ltd.; Golden Well International (HK) Ltd.; Zhejiang Tianyi Scientific and Educational Equipment Co., Ltd.

⁴⁹ See Memorandum to the File from Rebecca Pandolph, International Trade Analyst, AD/CVD Operations, Office 4 regarding, “Release of U.S. Customs and Border Protection Information Relating to No Shipment Claims Made in the 2010 Administrative Review of Wooden Bedroom Furniture from the People's Republic of China,” dated August 12, 201 land Memorandum to the File from Rebecca Pandolph, International Trade Analyst, AD/CVD Operations, Office 4 regarding, “Second Release of U.S. Customs and Border Protection Information Relating to No Shipment Claims Made in the 2010 Administrative Review of Wooden Bedroom Furniture from the People's Republic of China,” dated August 26, 2011.

⁵⁰ See Memorandum to Abdelali Elouaradia, Director, Office 4, AD/CVD Operations from Rebecca Pandolph, International Trade Compliance Analyst, AD/CVD Operations, Office 4, regarding “Antidumping Duty Administrative Review of Wooden Bedroom Furniture from the People's Republic of China: Analysis of No Sales/Shipments Claims Made by Certain Companies” dated concurrently with this notice (“No Shipments Memorandum”).

Since record evidence does not contradict the no-shipment claims of the following companies, the Department intends to rescind this administrative review with respect to these companies, pursuant to 19 CFR 351.213(d)(3):

• Hangzhou Cadman Trading Co., Ltd.

• Dongguan Huangsheng Furniture Co., Ltd.

• Golden Well International (HK) Ltd.

• Zhejiang Tianyi Scientific and Educational Equipment Co., Ltd.

Non-Market Economy Country Status

In every case conducted by the Department involving the PRC, the PRC has been treated as a non-market economy (“NME”) country. In accordance with section 771(18)(C)(i) of the Tariff Act of 1930, as amended (“the Act”), any determination that a foreign country is an NME country shall remain in effect until revoked by the administering authority. None of the parties to this proceeding have contested NME treatment. Accordingly, the Department has continued to treat the PRC as an NME country in this review

Separate Rates

In proceedings involving NME countries, the Department has a rebuttable presumption that all companies within the country are subject to government control and thus should be assessed a single antidumping duty rate. It is the Department's policy to assign all exporters of subject merchandise in a NME country this single rate unless an exporter can demonstrate that it is sufficiently independent so as to be entitled to a separate rate. Exporters can demonstrate this independence through the absence of both de 'ire and de facto governmental control over export activities. The Department analyzes each entity exporting the subject merchandise under a test arising from the Final Determination of Sales at Less Than Fair Value: Sparklers From the People's Republic of China, 56 FR 20588 (May 6, 1991) (“Sparklers”), as further developed in Notice of Final Determination of Sales at Less Than Fair Value: Silicon Carbide from the People's Republic of China, 59 FR 22585, 22586-87 (May 2, 1994) (“Silicon Carbide”).

However, if the Department determines that a company is wholly foreign-owned or located in a market economy, then a separate rate analysis is not necessary to determine whether it is independent from government control. See Notice of Final Determination of Sales at Less Than Fair Value: Creatine Monohydrate from the People's Republic of China, 64 FR 71104, 71105 (December 20, 1999) (where the respondent was wholly foreign-owned and thus qualified for a separate rate).

Separate Rate Recipients

Of the 73 companies or company groupings that had submitted separate applications or certifications, all but one request for review of these companies have been withdrawn. The Tube-Smith Group is the only company that has submitted separate rate information for which there still remains a request for review. The Tube-Smith Group reported that it is wholly-owned by individuals or companies located in a market economy. The record indicates that the Tube-Smith Group is wholly foreign-owned and the Department has no evidence indicating that it is under the control of the PRC governments ⁵¹ Accordingly, the Department has preliminarily granted a separate rate to the Tube-Smith Group.

⁵¹ See letter from Billionworth Enterprises, Ltd. to the Secretary of Commerce, regarding, “Wooden Bedroom Furniture from the People's Republic of China: Separate Rate Certification of Billionworth Enterprises, Ltd.,” dated May 2, 2011 and Letter from Tube-Smith Enterprise (Zhangzhou) Co., Ltd. to the Secretary of Commerce, regarding “Wooden Bedroom Furniture from the People's Republic of China: Separate Rate Application for Tube-Smith Enterprise (Zhangzhou) Co., Ltd.,” dated May 2, 2011.

Margin for Separate Rate Recipient Not Individually Examined

We note that the statute and the Department's regulations do not directly address the establishment of a rate to be applied to individual companies not selected for examination where the Department limited its examination in an administrative review pursuant to section 777(A)(c)(2) of the Act. The Department's practice in this regard, in cases involving limited selection based on exporters accounting for the largest volumes of trade, has been to weight-average the rates for the companies selected for examination excluding zero and de minimis rates and rates based entirely on adverse facts available (“AFA”). In the instant review, however, as discussed above, the Department is rescinding the review of the two entities selected as mandatory respondents and no other companies were selected for individual examination. Thus, there were no company-specific margins calculated in this review. Additionally, as discussed below, the rate for the PRC-wide entity is based on total AFA.

While the statute does not specifically address this particular set of circumstances, the Department has generally looked to section 735(c)(5) of the Act for guidance when calculating the rate for respondents we did not examine in an administrative review. Section 735(c)(5)(A) of the Act instructs the Department not to calculate an all-others rate using any zero or de minimis margins or any margins based entirely on facts available. Section 735(c)(5)(B) of the Act also provides that, where all margins are zero, de minimis, or based entirely on facts available, we may use “any reasonable method” for assigning the rate to non-selected respondents. Consistent with Department practice, we preliminarily find that a reasonable method for assigning the rate to non-selected respondents is to use the most recent rate calculated for the non-selected company in question, unless we calculated in a more recent review a rate for any company that was not zero, de minimis or based entirely on facts available. Therefore, the Department has preliminarily assigned a rate of 41.75 percent to the Tube-Smith Group. This rate is the most recently calculated rate that is not zero or de minimis and not based entirely on facts available.⁵² Also, this rate is for a period that is more recent than the period for which the Tube-Smith Group was assigned a rate.

⁵² See Wooden Bedroom Furniture from the People's Republic of China: Final Results and Final Rescission in Part, 76 FR 49729, 49733 (August 11, 2011) (“5th Review Results”).

Companies Not Receiving a Separate Rate

The following 14 companies and company groupings for which the Department initiated the instant review did not provide a separate rate certification or application:

• Dongguan Bon Ten Furniture Co., Ltd.

• Dongguan Grand Style Furniture Co. Ltd.; Hong Kong Da Zhi Furniture Co., Ltd.

• Dongguan Hero Way Woodwork Co., Ltd.; Dongguan Da Zhong Woodwork Co., Ltd.; Hero Way Enterprises Ltd.; Well Earth International Ltd.

• Dongguan Mu Si Furniture Co., Ltd.

• Hainan Jong Bao Lumber Co., Ltd.; Jibbon Enterprise Co., Ltd.

• Kuan Lin Furniture (Dong Guan) Co., Ltd.; Kuan Lin Furniture Factory; Kuan Lin Furniture Co., Ltd.

• Kunshan Lee Wood Product Co., Ltd.

• Leefu Wood (Dongguan) Co., Ltd.; King Rich International, Ltd.

• Meikangchi (Nantong) Furniture Company Ltd.

• Nantong Dongfang Orient Furniture Co., Ltd.

• Shanghai Fangjia Industry Co. Ltd.

• Winny Overseas, Ltd.; Zhongshan Winny Furniture Ltd.; Winny Universal Ltd.

• Zhong Shan Fullwin Furniture Co., Ltd.

• Zhongshan Gainwell Furniture Co. Ltd.

The companies listed above, which were named in the Initiation Notice, were notified in that notice that they must timely submit separate rate applications or separate rate certifications in order to qualify for a separate rate. Additionally, the Initiation Notice identified the Web site address where the separate rate certification and the separate rate application could be found. Since each of the companies listed above did not provide separate rate information, they have failed to demonstrate their eligibility for separate rate status. As a result, the Department is treating these PRC exporters as part of the PRC-wide entity.

Also, we have preliminarily found that (1) Baigou Crafts Factory of Fengkai, (2) Locke Furniture Factory, and (3) Sunwin, shipped subject merchandise during the POR, despite their claims to the contrary.⁵³ Because these companies did not file a timely separate rate certification or application ⁵⁴ and thereby failed to provide separate rate information, they have failed to demonstrate their eligibility for separate rate status. As a result, the Department is treating these three companies as part of the PRC-wide entity.⁵⁵

⁵³ See No Shipments Memorandum.

⁵⁴ The due date for submitting separate rate information was April 29, 2011. On September 2, 2011, approximately one month before the due date for the preliminary results of the instant review, Sunwin requested that the Department permit it to submit an “out of time separate rate certification * * * .” The Department has not granted Sunwin's request.

⁵⁵ Sunwim claims it changed its name from Zhangjiang Sunwin Arts & Crafts Co., Ltd. to Guangdong Sunwin Green Furniture Industry Group Co., Ltd. However, a timely separate rate application has not been filed in this review under either name. Thus, entries of subject merchandise during the POR exported under either name would be subject to the PRC-wide rate. Since Zhangjiang Sunwin Arts & Crafts Co., Ltd. has lost its separate rate, there is no need to make a determination as to whether Guangdong Sunwin Green Furniture Industry Group Co., Ltd. is entitled to the separate rate that had been assigned to Zhangjiang Sunwin Arts & Crafts Co., Ltd. Therefore, the Department has not conducted a successor-in-interest analysis with respect to Sunwin.

Use of Facts Available and AFA

Section 776(a) of the Act provides that the Department shall apply “facts otherwise available” if: (1) Necessary information is not on the record, or (2) an interested party or any other person (A) withholds information that has been requested, (B) fails to provide information within the deadlines established, or in the form and manner requested by the Department, subject to subsections (c)(1) and (e) of section 782 of the Act, (C) significantly impedes a proceeding, or (D) provides information that cannot be verified as provided by section 782(i) of the Act. Where the Department determines that a response to a request for information does not comply with the request, section 782(d) of the Act provides that the Department will so inform the party submitting the response and will, to the extent practicable, provide that party the opportunity to remedy or explain the deficiency. If the party fails to remedy the deficiency within the applicable time limits and subject to section 782(e) of the Act, the Department may disregard all or part of the original and subsequent responses, as appropriate.

Section 782(e) of the Act provides that the Department “shall not decline to consider information that is submitted by an interested party and is necessary to the determination but does not meet all applicable requirements established by the administering authority” if the information is timely, can be verified, is not so incomplete that it cannot be used, and if the interested party acted to the best of its ability in providing the information. Where all of these conditions are met, the statute requires the Department to use the information supplied if it can do so without undue difficulties.

Section 776(b) of the Act further provides that the Department may use an adverse inference in applying the facts otherwise available when a party has failed to cooperate by not acting to the best of its ability to comply with a request for information. Such an adverse inference may include reliance on information derived from the petition, the final determination, a previous administrative review, or other information placed on the record.

Application of Total AFA to the PRC-Wide Entity

In the Initiation Notice, the Department stated that if one of the companies for which this review has been initiated “does not qualify for a separate rate, all other exporters of wooden bedroom furniture from the PRC that have not qualified for a separate rate are deemed to be covered by this review as part of a single PRC entity * * * .” ⁵⁶ As noted above, not all of the companies for which this review was initiated have qualified for a separate rate; as a result, the PRC-wide entity is now under review.

⁵⁶ Initiation Notice, 76 FR at 10882 n.10.

Information on the record of this investigation indicates that the PRC-wide entity was non-responsive. Specifically, Shanghai Fangjia Industry Co. Ltd., which we are treating as part of the PRC-wide entity, did not respond to the Department's request for Q&V data. We preliminarily determine that the PRC-wide entity has withheld information requested by the Department.

Thus, pursuant to sections 776(a)(2)(A) (withholds requested information) and (C) (significantly impedes a proceeding) of the Act, the Department has preliminarily based the dumping margin of the PRC-wide entity on the facts otherwise available on the record. Furthermore, the PRC-wide entity's refusal to provide the requested information constitutes circumstances under which it is reasonable to conclude that less than full cooperation has been shown. See Nippon Steel Corporation v. United States, 337 F.3d 1373, 1383 (Fed. Cir. 2003) (Nippon Steel) where the Court of Appeals for the Federal Circuit (“CAFC”) explained that the Department need not show intentional conduct existed on the part of the respondent, but merely that a “failure to cooperate to the best of a respondent's ability” existed (i.e., information was not provided “under circumstances in which it is reasonable to conclude that less than full cooperation has been shown”). Hence, pursuant to section 776(b) of the Act, the Department has determined that, when selecting from among the facts otherwise available, an adverse inference is warranted with respect to the PRC-wide entity.

Selection of an AFA Rate for the PRC-Wide Entity

In deciding which facts to use as AFA, section 776(b) of the Act and 19 CFR 351.308(c)(1) provide that the Department may rely on information derived from (1) the petition, (2) a final determination in the investigation, (3) any previous review or determination, or (4) any information placed on the record. The Department's practice is to select an AFA rate that is sufficiently adverse “as to effectuate the purpose of the facts available rule to induce respondents to provide the Department with complete and accurate information in a timely manner” and that ensures “that the party does not obtain a more favorable result by failing to cooperate than if it had cooperated fully.” ⁵⁷ Specifically, the Department's practice in selecting a total AFA rate in administrative reviews is to use the highest rate on the record of the proceeding which, to the extent practicable, can be corroborated (assuming the rate is based on secondary infonnation).⁵⁸

⁵⁷ See Notice of Final Determination of Sales at Less Than Fair Value: Static Random Access Memory Semiconductors From Taiwan, 63 FR 8909, 8911 (February 23, 1998); see also Brake Rotors From the People's Republic of China: Final Results and Partial Rescission of the Seventh Administrative Review; Final Results of the Eleventh New Shipper Review, 70 FR 69937, 69939 (November 18, 2005) and the Statement of Administrative Action accompanying the Uruguay Round Agreements Act, H.R. Doc. 103, 316, 838, 870 (1994).

⁵⁸ See Glycine from the People's Republic of China: Preliminary Results of Antidumping Duty Administrative Review, 74 FR 15930, 15934 (April 8, 2009) (unchanged in the final results); see also, Fujian Lianfu Forestry Co., Ltd. v. United States, 638 F. Supp. 2d 1325, 1336 (Ct. Int'l Trade 2009) (“Commerce may, of course, begin its total AFA selection process by defaulting to the highest rate in any segment of the proceeding, but that selection must then be corroborated, to the extent practicable.”)

The Court of International Trade (“CIT”) and the CAFC have affirmed decisions to select the highest margin from any prior segment of the proceeding as the AFA rate on numerous occasions.⁵⁹ Therefore, as AFA, the Department has preliminarily assigned the PRC-wide entity a dumping margin of 216.01 percent. This margin, which is from the 2004-2005 new shipper review of wooden bedroom furniture from the PRC, is the highest dumping margin on the record of any segment of this proceeding.⁶⁰

⁵⁹ See, e.g., NSK Ltd. v. United States, 346 F. Supp. 2d 1312, 1335 (Ct. Int'l Trade 2004) (affirming a 73.55 percent total AFA rate, the highest available dumping margin from a different respondent in the investigation); Kompass Food Trading Int'l v. United States, 24 CIT 678, 683-84 (2000) (affirming a 51.16 percent total AFA rate, the highest available dumping margin from a different, fully cooperative respondent); and Shanghai Taoen Int'l Trading Co., Ltd. v. United States, 360 F. Supp. 2d 1339, 1348 (Ct. Int'l Trade 2005) (affirming a 223.01 percent total AFA rate, the highest available dumping margin from a different respondent in a previous administrative review).

⁶⁰ See Wooden Bedroom Furniture from the People's Republic of China: Final Results of the 2004-2005 Semi-Annual New Shipper Reviews, 71 FR 70739, 70741 (December 6, 2006) (“2004-2005 New Shipper Review”).

Corroboration of Secondary Information

Section 776(c) of the Act provides that, when the Department relies on secondary information rather than on information obtained in the course of an investigation or review, it shall, to the extent practicable, corroborate that information from independent sources that are reasonably at its disposal. Secondary information is defined as information derived from the petition that gave rise to the investigation or review, the final determination concerning the subject merchandise, or any previous review under section 751 of the Act concerning the subject merchandise.⁶¹ Corroborate means that the Department will satisfy itself that the secondary information to be used has probative value.⁶² To corroborate secondary information, the Department will, to the extent practicable, examine the reliability and relevance of the information to be used.⁶³ Independent sources used to corroborate such information may include, for example, published price lists, official import statistics and customs data, and information obtained from interested parties during the particular investigation.⁶⁴

⁶¹ See SAA at 870.

⁶² Id.

⁶³ See Tapered Roller Bearings and Parts Thereof, Finished and Unfinished From Japan, and Tapered Roller Bearings Four Inches or Less in Outside Diameter, and Components Thereof, From Japan: Preliminary Results of Antidumping Duty Administrative Reviews and Partial Termination of Administrative Reviews, 61 FR 57391, 57392 (November 6, 1996) (unchanged in the final results); Tapered Roller Bearings and Parts Thereof, Finished and Unfinished From Japan, and Tapered Roller Bearings Four Inches or Less in Outside Diameter, and Components Thereof, From Japan; Final Results of Antidumping Duty Administrative Reviews and Termination in Part, 62 FR 11825 (March 13, 1997).

⁶⁴ See Notice of Preliminary Determination of Sales at Less Than Fair Value: High and Ultra-High Voltage Ceramic Station Post Insulators from Japan, 68 FR 35627, 35629 (June 16, 2003), unchanged in final determination, 68 FR 62560; Notice of Final Determination of Sales at Less Than Fair Value: Live Swine From Canada, 70 FR 12181, 12183-84 (March 11, 2005).

The 216.01 AFA rate that the Department is using in this review is a company-specific rate calculated in the 2004-2005 New Shipper Review of the wooden bedroom furniture order.⁶⁵ No additional information has been presented in the current review which calls into question the reliability of the information. Thus, we have determined this information continues to be reliable.

⁶⁵ See 2004-2005 New Shipper Review, 71 FR at 70741.

With respect to the relevance aspect of corroboration, the Department will consider information reasonably at its disposal to determine whether a margin continues to have relevance. Where circumstances indicate that the selected margin is not appropriate as AFA, the Department will disregard the margin and determine an appropriate margin. See Fresh Cut Flowers from Mexico: Final Results of Antidumping Duty Administrative Review, 61 FR 6812, 6814 (February 22, 1996) (where the Department disregarded the highest margin in that case as adverse best information available (the predecessor to facts available) because the margin was based on another company's uncharacteristic business expense resulting in an unusually high margin). Similarly, the Department does not apply a margin that has been discredited. See D&L Supply Co. v. United States, 113 F.3d 1220, 1221 (Fed. Cir. 1997) (ruling that the Department will not use a margin that has been judicially invalidated).

Because there are no mandatory respondents in this review for which individual margins are calculated, there are no transaction specific margins with which to corroborate the 216.01 rate. Accordingly, the Department must look to secondary information to corroborate this rate.

In the two most recently completed administrative reviews in this proceeding, the Department compared transaction-specific margins calculated for the mandatory respondents with the 216.01 percent rate calculated in the 2004-2005 New Shipper Review and found that the 216.01 percent margin was within the range of the margins calculated for the mandatory respondents.⁶⁶ Because the dumping margins used to corroborate the AFA rate in the two most recently completed reviews did not reflect unusually high dumping margins relative to the calculated rates determined for the cooperating respondents in those reviews, the Department was satisfied that the dumping margins used for corroborative purposes reflected commercial reality because they were based upon real transactions that occurred during the POR and were subject to verification by the Department. Since the 216.01 percent margin was within the range of transaction-specific margins on the record of the two prior administrative reviews, the Department determined that the 216.01 percent margin continued to be relevant for use as an AFA rate for the PRC-wide entity in those administrative reviews. As there are no comments or evidence on the record to indicate that there have been significant changes in the industry since the final results of the two most recently completed administrative reviews and there are no comments or evidence on the record of this review that question the relevancy of the 216.01 rate, the Department has determined that the 216.01 percent margin continues to be relevant for use as an AFA rate for the PRC-wide entity.

⁶⁶ See Wooden Bedroom Furniture from the People's Republic of China: Final Results and Final Rescission in Part, 75 FR 50992 (August 18, 2010) (“4th Review Final Results”) and 5th Review Results.

As the adverse margin is both reliable and relevant, the Department has determined that it has probative value. Accordingly, the Department has determined that this rate meets the corroboration criterion established in section 776(c) of the Act.

Preliminary Results of Review

We preliminarily determine that the following weighted-average dumping margins exist for the period January 1, 2010 through December 31, 2010:

Exporter | Antidumping duty margin (percent)
Tube-Smith Enterprises (ZhangZhou) Co., Ltd.; Tube-Smith Enterprises (Haimen) Co., Ltd.; and Billionworth Enterprises, Ltd | 41.75
PRC-Wide Entity | 216.01

Comments

Interested parties may submit written comments no later than 30 days after the date of publication of these preliminary results of review. See 19 CFR 351.309(c)(1)(ii). Rebuttal comments must be limited to the issues raised in the written comments and may be filed no later than 5 days after the time limit for filing case briefs see 19 CFR 351.309(d). Any interested party may request a hearing within 30 days of publication of these preliminary results. See 19 CFR 351.310(c). Any hearing, if requested, ordinarily will be held two days after the scheduled date for submission of rebuttal briefs. See 19 CFR 351.310(d). Parties should confirm by telephone the date, time, and location of the hearing two days before the scheduled date.

The Department will issue the final results of the administrative review, which will include the results of its analysis of issues raised in the briefs, within 120 days of publication of these preliminary results, in accordance with 19 CFR 351.213(h)(1) unless the time limit is extended.

Assessment

Pursuant to 19 CFR 351.212, the Department will determine, and CBP shall assess, antidumping duties on all appropriate entries of subject merchandise in accordance with the final results of this review. The Department intends to instruct CBP to liquidate POR entries containing subject merchandise exported by the Tube-Smith group and the PRC-wide entity at the rates assigned to these entities in the final results of this review. The Department intends to issue these assessment instructions, as well as instructions for the companies for which the Department intends to rescind this review, directly to CBP 15 days after publication of the final results of this review.

For the companies for which the Department has rescinded this review (see the companies listed under “Partial Final Rescission of Review” above) which had a separate rate granted in a previously completed segment of this proceeding that was in effect during the instant review period, the Department intends to issue appropriate assessment instructions directly to CBP 15 days after the publication of this preliminary notice in the Federal Register. For these companies, antidumping duties shall be assessed on POR entries subject to the separate rates at rates equal to the cash deposit of estimated antidumping duties required at the time of entry, or withdrawal from warehouse, for consumption, in accordance with 19 CFR 351.212(c)(1)(i).

For the companies for which the Department intends to rescind the individual review of the company in the final results, but which are part of the PRC-wide entity during the instant review period (i.e., have not established their eligibility for a separate rate), the Department will issue assessment instructions 15 days after publication of the final results of this review. These companies are as follows:

• Brother Furniture Manufacture Co., Ltd.⁶⁷

⁶⁷ Brother Furniture Manufacture Co., Ltd. lost its separate rate on August 18, 2010 (see 4th Review Final Results). This rate applies only to entries from January 1, 2010 through August 17, 2010. All other entries of subject merchandise from Brother Furniture Manufacture Co., Ltd. during 2010 are subject to the PRC-wide rate. Assessment instructions for 2010 entries will not be issued until completion of the instant review.

• C.F. Kent Co., Inc.

• C.F. Kent Hospitality, Inc.

• Champion Sun Industries Limited

• Contact Co., Ltd.

• Denny's Furniture Associates Corp.

• Denny's International Co., Ltd.

• Der Cheng Furniture Co., Ltd.

• Der Cheng Wooden Works

• Dong Guan Golden Fortune Houseware Co., Ltd.⁶⁸

⁶⁸ Dong Guan Golden Fortune Houseware Co., Ltd. lost its separate rate on August 18, 2010 (see 4th Review Final Results). This rate applies only to entries from January 1, 2010 through August 17, 2010. All other entries of subject merchandise from Dong Guan Golden Fortune Houseware Co., Ltd. during 2010 are subject to the PRC-wide rate. Assessment instructions for 2010 entries will not be issued until completion of the instant review.

• Dongguan Chunsan Wood Products Co., Ltd.⁶⁹

⁶⁹ Dongguan Chunsan Wood Products Co., Ltd. lost its separate rate on August 18, 2010 (see 4th Review Final Results). The separate rate applies only to entries from January 1, 2010 through August 17, 2010. All other entries of subject merchandise from Dongguan Chunsan Wood Products Co., Ltd. during 2010 are subject to the PRC-wide rate. Assessment instructions for 2010 entries will not be issued until completion of the instant review.

• Dongguan Hua Ban Furniture Co., Ltd.⁷⁰

⁷⁰ Dongguan Hua Ban Furniture Co., Ltd. lost its separate rate on August 18, 2010 (see 4th Review Final Results). The separate rate applies only to entries from January 1, 2010 through August 17, 2010. All other entries of subject merchandise from Dongguan Hua Ban Furniture Co., Ltd. during 2010 are subject to the PRC-wide rate. Assessment instructions for 2010 entries will not be issued until completion of the instant review.

• DongGuan Sundart Timber Products Co., Ltd

• Ever Spring Furniture Company Ltd.⁷¹

⁷¹ Ever Spring Furniture Company Ltd.; S.Y.C. Family Enterprise Co., Ltd. lost its separate rate on August 18, 2010 (see 4th Review Final Results). The separate rate applies only to entries from January 1, 2010 through August 17, 2010. All other entries of subject merchandise from Ever Spring Furniture Company Ltd.; S.Y.C. Family Enterprise Co., Ltd. during 2010 are subject to the PRC-wide rate. Assessment instructions for 2010 entries to which the PRC-wide rate applies will not be issued until completion of the instant review.

• Evershine Enterprise Co.

• Fleetwood Fine Furniture LP

• Fujian Putian Jinggong Furniture Co., Ltd.

• Gainwell Industries Limited

• Green River Wood (Dongguan) Ltd.⁷²

⁷² Green River Wood (Dongguan) Ltd. lost its separate rate on August 18, 2010 (see 4th Review Final Results). The separate rate applies only to entries from January 1, 2010 through August 17, 2010. All other entries of subject merchandise from Green River Wood (Dongguan) Ltd. during 2010 are subject to the PRC-wide rate. Assessment instructions for 2010 entries will not be issued until completion of the instant review.

• Guangdong Gainwell Industrial Furniture Co., Ltd.

• Hong Kong Jingbi Group

• Huasen Furniture Co., Ltd.

• Jiant Furniture Co., Ltd.

• King Kei Trading Company Limited ⁷³

⁷³ King Kei Trading Company Limited lost its separate rate on August 18, 2010 (see 4th Review Final Results). The separate rate applies only to entries from January 1, 2010 through August 17, 2010. All other entries of subject merchandise from King Kei Trading Company Limited during 2010 are subject to the PRC-wide rate. Assessment instructions for 2010 entries will not be issued until completion of the instant review.

• King's Way Furniture Industries Co., Ltd.⁷⁴

⁷⁴ King's Way Furniture Industries Co., Ltd.; Kingsyear Ltd. lost its separate rate on August 18, 2010 (see 4th Review Final Results). The separate rate applies only to entries from January 1, 2010 through August 17, 2010. All other entries of subject merchandise from King's Way Furniture Industries Co., Ltd.; Kingsyear Ltd. during 2010 are subject to the PRC-wide rate. Assessment instructions for 2010 entries will not be issued until completion of the instant review.

• Kingsyear Ltd.⁷⁵

⁷⁵ King's Way Furniture Industries Co., Ltd.; Kingsyear Ltd. lost its separate rate on August 18, 2010 (see 4th Review Final Results). The separate rate applies only to entries from January 1, 2010 through August 17, 2010. All other entries of subject merchandise from King's Way Furniture Industries Co., Ltd.; Kingsyear Ltd. during 2010 are subject to the PRC-wide rate. Assessment instructions for 2010 entries will not be issued until completion of the instant review.

• Longkou Huangshan Furniture Factory

• MoonArt Furniture Group

• MoonArt International Inc.

• Nanjing Jardine Enterprise, Ltd.

• Nanjing Nanmu Furniture Co., Ltd.⁷⁶

⁷⁶ Nanjing Nanmu Furniture Co., Ltd. lost its separate rate on August 18, 2010 (see 4th Review Final Results). The separate rate applies only to entries from January 1, 2010 through August 17, 2010. All other entries of subject merchandise from Nanjing Nanmu Furniture Co., Ltd. during 2010 are subject to the PRC-wide rate. Assessment instructions for 2010 entries will not be issued until completion of the instant review.

• Nantong Wangzhuang Furniture Co., Ltd.

• Ningbo Fubang Furniture Industries Limited

• Ningbo Furniture Industries Company Ltd.

• Ningbo Techniwood Furniture Industries Limited

• Northeast Lumber Co., Ltd.

• Passwell Wood Corporation

• S.Y.C. Family Enterprise Co., Ltd.⁷⁷

⁷⁷ Ever Spring Furniture Company Ltd.; S.Y.C. Family Enterprise Co., Ltd. lost its separate rate on August 18, 2010 (see 4th Review Final Results). The separate rate applies only to entries from January 1, 2010 through August 17, 2010. All other entries of subject merchandise from Ever Spring Furniture Company Ltd.; S.Y.C. Family Enterprise Co., Ltd. during 2010 are subject to the PRC-wide rate. Assessment instructions for 2010 entries to which the PRCwide rate applies will not be issued until completion of the instant review.

• Senyuan Furniture Group

• Shanghai Aosen Furniture Co., Ltd.⁷⁸

⁷⁸ Shanghai Aosen Furniture Co., Ltd. lost its separate rate on August 18, 2010 (see 4th Review Final Results). The separate rate applies only to entries from January 1, 2010 through August 17, 2010. All other entries of subject merchandise from Shanghai Aosen Furniture Co., Ltd. during 2010 are subject to the PRC-wide rate. Assessment instructions for 2010 entries will not be issued until completion of the instant review.

• Shanghai Hospitality Product Mfg., Co., Ltd.

• Shanghai Industries Group

• Shanghai Kent Furniture Co., Ltd.

• Shanghai Season Industry & Commerce Co., Ltd.

• Shanghai Zhiyi (Jiashun) Furniture Co., Ltd.

• Shanghai Zhiyi Furniture and Decoration Co., Ltd.

• Shaoxing Mengxing Furniture Co., Ltd.

• Starwood Furniture Manufacturing Co., Ltd.⁷⁹

⁷⁹ Starwood Furniture Manufacturing Co., Ltd. lost its separate rate on August 18, 2010 (see 4th Review Final Results). The separate rate applies only to entries from January 1, 2010 through August 17, 2010. All other entries of subject merchandise from Starwood Furniture Manufacturing Co., Ltd. during 2010 are subject to the PRC-wide rate. Assessment instructions for 2010 entries will not be issued until completion of the instant review.

• Sundart International, Ltd.

• Techniwood (Macao Commercial Offshore) Limited

• Tradewinds International Enterprise Ltd.

• Trendex Industries Ltd.

• Wan Bao Chen Group Hong Kong Co., Ltd.⁸⁰

⁸⁰ Wan Bao Chen Group Hong Kong Co., Ltd. lost its separate rate on August 18, 2010 (see 4th Review Final Results). The separate rate applies only to entries from January 1, 2010 through August 17, 2010. All other entries of subject merchandise from Wan Bao Chen Group Hong Kong Co., Ltd. during 2010 are subject to the PRC-wide rate. Assessment instructions for 2010 entries will not be issued until completion of the instant review.

• World Design International Co., Ltd.

• Xilinmen Furniture Co., Ltd.

• Xingli Arts & Crafts Factory of Yangchun ⁸¹

⁸¹ Xingli Arts & Crafts Factory of Yangchun lost its separate rate on August 18, 2010 (see 4th Review Final Results). The separate rate applies only to entries from January 1, 2010 through August 17, 2010. All other entries of subject merchandise from Xingli Arts & Crafts Factory of Yangchun during 2010 are subject to the PRC-wide rate. Assessment instructions for 2010 entries will not be issued until completion of the instant review.

• Yuexing Group Co., Ltd.

• Zhejiang Shaoxing Huaweimei Furniture Co., Ltd.

• Zhong Shan Heng Fu Furniture Co.

• Zhongshan Fengheng Furniture Co., Ltd.

• Zhongshan Yiming Furniture Co., Ltd.

Cash Deposit Requirements

The following cash deposit requirements will be effective upon publication of the final results of this review for shipments of subject merchandise from the PRC entered, or withdrawn from warehouse, for consumption on or after the publication date, as provided by sections 751(a)(1) and (a)(2)(C) of the Act: (1) For all respondents receiving a separate rate, the cash deposit rate will be that rate established in the final results of this review; (2) for previously investigated or reviewed PRC and non-PRC exporters not listed above that have separate rates, the cash deposit rate will continue to be the exporter-specific rate published for the most recent period; (3) for all PRC exporters of subject merchandise that have not been found to be entitled to a separate rate, the cash deposit rate will be the PRC-wide rate established in the final results of this review; and (4) for all non-PRC exporters of subject merchandise which have not received their own rate, the cash deposit rate will be the rate applicable to the PRC exporters that supplied the non-PRC exporter. These deposit requirements, when imposed, shall remain in effect until further notice.

Notification to Importers

This notice also serves as a reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

The Department is issuing and publishing these preliminary results of administrative review in accordance with section 777(i)(1) of the Act, and 19 CFR 351.221(b)(4).

Dated: October 3, 2011.
Ronald K. Lorentzen,
Deputy Assistant Secretary for Import Administration.

[FR Doc. 2011-27280 Filed 10-21-11; 8:45 am]

BILLING CODE 3510-DS-M